DEPARTMENT OF DEFENSE

GENERAL SERVICES ADMINISTRATION

NATIONAL AERONAUTICS AND SPACE ADMINISTRATION

48 CFR Part 39

[FAC 2005-03; FAR Case 2004-020; Item II]

RIN 9000-AK05

Federal Acquisition Regulation; Section 508 Micropurchase Exemption

AGENCIES: Department of Defense (DoD), General Services Administration (GSA), and National Aeronautics and Space Administration (NASA).

ACTION: Final rule.

SUMMARY: The Civilian Agency Acquisition Council and the Defense Acquisition Regulations Council (Councils) have agreed to convert the interim rule published in the Federal Register at 69 FR 59702, October 5, 2004, to a final rule without change. The final rule amends the Federal Acquisition Regulation (FAR) to extend the Electronic and Information Technology (Section 508) micropurchase exception from October 1, 2004 to April 1, 2005.

DATES: Effective Date: April 11, 2005.

FOR FURTHER INFORMATION CONTACT: The FAR Secretariat at (202) 501-4755 for information pertaining to status or publication schedules. For clarification of content, contact Ms. Linda Nelson, Procurement Analyst, at (202) 501-1900 or Ms. Angelena Moy, Case Manager, at (703) 602-1302. Please cite FAC 2005-03, FAR case 2004-020.

SUPPLEMENTARY INFORMATION:

A. Background

This final rule amends the Federal Acquisition Regulation. DoD, GSA, and NASA published an interim rule in the Federal Register at 69 FR 59702, October 5, 2004. One respondent submitted public comments. The comments submitted were deemed outside the scope of the rule. The Councils concluded that the interim rule should be converted to a final rule without change.

The extension of the micropurchase exception until April 1, 2005, will provide agencies time to update their agency’s purchase card training modules on the 508 requirements and implement necessary training of personnel. Free online training developed by GSA, in collaboration with the Section 508 Executive Steering Committee, is also available at http://www.section508.gov.

This is not a significant regulatory action and, therefore, was not subject to review under Section 6(b) of Executive Order 12866, Regulatory Planning and Review, dated September 30, 1993. This rule is not a major rule under 5 U.S.C. 804.

B. Regulatory Flexibility Act

The Department of Defense, the General Services Administration, and the National Aeronautics and Space Administration certify that this final rule will not have a significant economic impact on a substantial number of small entities within the meaning of the Regulatory Flexibility Act, 5 U.S.C. 601, et seq., because the rule keeps the status quo by continuing the micropurchase exemption to Section 508 until April 1, 2005. The extension of the micropurchase exception will not cause a significant impact on the disability community or industry.

C. Paperwork Reduction Act

The Paperwork Reduction Act does not apply because the changes to the FAR do not impose information collection requirements that require the approval of the Office of Management and Budget under 44 U.S.C. 3501, et seq.

List of Subjects in 48 CFR Part 39

Government procurement.

Dated: April 1, 2005.
Rodney P. Lantier,
Director, Contract Policy Division, General Services Administration.

Interim Rule Adopted as Final Without Change

Accordingly, the interim rule amending 48 CFR part 39, which was published at 69 FR 59702, October 5, 2004, is adopted as a final rule without change.

[FR Doc. 05-6866 Filed 4-8-05; 8:45 am]

BILLING CODE 6820-EP-S